DEPARTMENT OF HEALTH AND HUMAN SERVICES

National Institutes of Health

Submission for OMB Review; 30-Day Comment Request; Cancer Epidemiology Descriptive Cohort Database (NCI)

SUMMARY: Under the provisions of Section 3507(a)(1)(D) of the Paperwork Reduction Act of 1995, the National Institutes of Health (NIH), has submitted to the Office of Management and Budget (OMB) a request for review and approval of the information collection listed below. This proposed information collection was previously published in the Federal Register on June 18, 2014, Vol. 79, page 34766 and allowed 60-days for public comment. No public comments were received. The purpose of this notice is to allow an additional 30 days for public comment. The National Cancer Institute (NCI), National Institutes of Health, may not conduct or sponsor, and the respondent is not required to respond to, an information collection that has been extended, revised, or implemented on or after October 1, 1995, unless it displays a currently valid OMB control number.

Direct Comments To OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30-days of the date of this publication.

FOR FURTHER INFORMATION CONTACT: To obtain a copy of the data collection plans and instruments or request more information on the proposed project contact: Daniela Seminara, Senior Scientist and Cohort and Consortia Coordination Team Lead, Epidemiology and Genomics Research Program (EGRP), Division of Cancer Control and Population Sciences (DCCPS), 9609 Medical Center Drive, Rockville, Md. 20892 or call non-toll-free number 240-276-6748 or email your request, including your address to: seminard@mail.nih.gov. Formal requests for additional plans and instruments must be requested in writing.

Proposed Collection: Cancer Epidemiology Descriptive Cohort Database, 0925—New, National Cancer Institute (NCI), National Institutes of Health (NIH).

Need and Use of Information Collection: The NCI Epidemiology and Genomics Research Program (EGRP) supports large-scale collaborations across numerous cancer epidemiology cohorts. The collaborative approach to date has been lacking in easily accessible, centralized, and searchable information. To address the need for better collaborative research and increased transparency, EGRP will develop a Cancer Epidemiology Descriptive Cohort Database (CEDCD) accessible through a public Web site. The information collected from the current survey will be used to populate the CEDCD. This public Web site will allow investigators to know what data and specimens exist among other cohorts. Respondents will be cohort Principal Investigators. The data collection forms will be sent to participating cohort PIs annually to update any information that has changed so that the CEDCD Web site will remain current. No cohort participant-level data is being collected from any of the cohorts.

The information to be collected will be aggregate descriptive information and protocols. Though the CEDCD has a biospecimen component (similar to the Specimen Resource Locator), the CEDCD is not a biospecimen locator database. It is a database focusing exclusively on descriptive data pertaining to large, prospective epidemiology cohorts.

OMB approval is requested for 3 years. There are no costs to respondents other than their time. The total estimated annualized burden hours are 550.

Estimated Annualized Burden Hours
Type of respondent | Form name | Number of respondents | Number of responses per respondent | Average burden per response (in hours) | Total annual burden hour
Individual: Principal Investigator New Cohort | Approval Form Biospecimen and Cancer Count Information Spreadsheet | 100 100 | 1 1 | 30/60 60/60 | 50 100
| Cancer Epidemiology Descriptive Cohort Database Data Collection Form | 100 | 1 | 90/60 | 150
Individual: Principal Investigator Established Cohort | Biospecimen and Cancer Count Information Spreadsheet | 200 | 1 | 30/60 | 100
| Cancer Epidemiology Descriptive Cohort Database Data Collection Form | 200 | 1 | 45/60 | 150

Dated: September 8, 2014.
Karla Bailey,
NCI Project Clearance Liaison, National Institutes of Health.

[FR Doc. 2014-21785 Filed 9-11-14; 8:45 am]

BILLING CODE 4140-01-P